DEPARTMENT OF HEALTH AND HUMAN SERVICES

Health Resources and Services Administration

Notice of Supplemental Award to the University of Southern Maine Rural Health Research Center

AGENCY: Health Resources and Services Administration (HRSA), Department of Health and Human Services.

ACTION: Notice of Supplemental Award.

SUMMARY: HRSA announces the award of a supplement in the amount of $175,000 for a HRSA-funded cooperative agreement awarded to the University of Southern Maine Rural Health Research Center. The supplement will fund a comprehensive region wide assessment of health issues to improve health care in rural areas of the Northern Border Region (NBR) of the U.S.—Grant Number U1CRH03716.

FOR FURTHER INFORMATION CONTACT: For further information regarding this request, please contact Jennifer Burges via email at jburges@hrsa.gov or by phone at (301) 945-3985).

SUPPLEMENTARY INFORMATION: Intended Recipient of Award: University of Southern Maine.

Amount of the Non-Competitive Award: $175,000.

Period of Supplemental Funding: 9/1/2020-08/31/2021.

CFDA Number: 93.155.

Authority: Section 711(b) of the Social Security Act (42 U.S.C. 912(b)(5)), as amended.

Table 1—Recipients and Award Amount
Grantee/organization name | Grant No. | State | FY 2020 authorized funding level | FY 2020 estimated supplemental funding
University of Southern Maine | U1CRH03716 | ME | $700,000 | $175,000

Justification: The Rural Health Research Center (RHRC) program's purpose is to support high-quality, impartial, policy-relevant research to assist health care providers and decision/policy-makers at the federal, state, and local levels in better understanding the health care challenges faced by rural communities to improve health care in rural areas. RHRC recipients conduct policy-oriented health services research, update trend analyses and existing research, and conduct necessary literature reviews on rural health issues and synthesize the issues into publically available policy briefs designed to improve health care in rural areas.

In fiscal year 2021 departmental appropriations report language, HRSA's Federal Office of Rural Health Policy was directed to fund programs to assist the NBR, which is comprised of the States of Vermont, Maine, New York and New Hampshire. As part of that directive, HRSA intends to work in consultation with the Northern Border Region Commission to fund one RHRC to do a comprehensive region wide assessment of health, health outcomes, health needs, and health assets for the purpose of improving health care in rural areas within the NBR. The only RHRC positioned to do this work is the University of Southern Maine. It is the only RHRC that is located within the NBR states that has the capability to research regional rural health care needs and has experience working with the required data from these states. The proposed activities are within the scope of their current RHRC grant.

Diana Espinosa,
Acting Administrator.

[FR Doc. 2021-10338 Filed 5-14-21; 8:45 am]

BILLING CODE 4165-15-P